DEPARTMENT OF TRANSPORTATION

Office of the Secretary

Privacy Act of 1974: System of Records

AGENCY: Federal Motor Carrier Safety Administration (FMCSA).

ACTION: Notice to modify a system of records.

SUMMARY: DOT proposes to modify a system of records under the Privacy Act of 1974. The system is FMCSA's National Consumer Complaint Database (NCCDB), which is being modified to reflect: (1) The new name; (2) changes to the system location; (3) additions to the categories of individuals; (4) reduction in the categories of records; (5) additions to the categories of records; (6) clarity to the purpose of the system. This system would not duplicate any other DOT system of records.

DATES: Effective Date: This notice will be effective, without further notice, on June 22, 2010, unless modified by a subsequent notice to incorporate comments received by the public. Comments must be received by June 14, 2010 to be assured consideration.

ADDRESSES: Send comments to Habib Azarsina, Departmental Privacy Officer, S-80, United States Department of Transportation, Office of the Secretary of Transportation, 1200 New Jersey Avenue, SE., Washington, DC 20590 or habib.azarsina@dot.gov.

FOR FURTHER INFORMATION CONTACT: Habib Azarsina, Departmental Privacy Officer, S-80, United States Department of Transportation, Office of the Secretary of Transportation, 1200 New Jersey Avenue, SE., Washington, DC 20590; telephone 202.366.1965, or habib.azarsina@dot.gov.

SUPPLEMENTARY INFORMATION: The DOT system of records notice subject to the Privacy Act of 1974 (5 U.S.C. 552a), as amended, as proposed to be modified, is available from the above mentioned address and appears below:

DOT/FMCSA 004

SYSTEM NAME:

National Consumer Complaint Database (NCCDB).

SECURITY CLASSIFICATION:

Controlled Unclassified Information (CUI).

SYSTEM LOCATION:

The NCCDB and its Web site (http://nccdb.fmcsa.dot.gov/HomePage.asp) are administered and maintained by the facility listed below:

John A. Volpe National Transportation Systems Center (Volpe Center), 55 Broadway, Cambridge, MA 02142.

The Safety Violation and Household Goods Consumer Complaint Hotline (888-DOT-SAFT or 888-368-7238) is operated by the contractor listed below:

Ecompex, Inc. (Ecompex), DTMC75-05-C-00008, 7926 Jones Branch Drive, Suite 560, McLean, VA 22102.

The hotline and Web site are operated under a leasing agreement between Ecompex and the subcontractor listed below:

Computing Technologies, Inc. (CoTs), DTFH61-99-Z-00073, 3028 Javier Road, Suite 400, Fairfax, VA 22031.

CATEGORIES OF INDIVIDUALS:

1. Consumers and commercial motor vehicle drivers who report violations of Federal Motor Carrier Safety Regulations (FMCSRs).

2. Consumers who contract with motor carriers and brokers to transport their household goods (HHG) in interstate operations.

3. Motor carriers, employees, drivers and consumers who contract with Hazardous Materials motor carriers and Cargo Tank Facilities.

CATEGORIES OF RECORDS IN THE SYSTEM:

Records and reports in the NCCDB may include the following:

1. HHG complaints (PII).

Respondent names, tracking number, addresses, fax numbers, phone numbers, and e-mail addresses.

2. Safety Violation complaints (PII).

Respondent names, tracking number, addresses, fax numbers, phone numbers, and e-mail address.

3. Hazardous Materials and Cargo Tank Complaints (PII).

Respondent names, tracking number, addresses, fax numbers, phone numbers, and e-mail address.

4. Acknowledgement letters to complainants (PII).

Complainant's name, tracking number, and address.

5. Notification letters to motor carriers (PII).

Respondent's name, complaint number, and address.

AUTHORITY FOR MAINTENANCE OF THE SYSTEM:

49 U.S.C. 14701 note.

PURPOSE(S):

The major goal of NCCDB is to meet the requirements set forth in section 4214, Public Law 109-59, 119 Stat. 1144, 1759-1760, codified at 49 U.S.C. 14701 note, the Safe, Accountable Flexible, Efficient Transportation Equity Act: A Legacy for Users (SAFETEA-LU), which requires FMCSA to establish:

1. A system, database, and procedures for filing and logging consumer complaints relating to household goods motor carriers for the purpose of compiling or linking complaint information gathered by FMCSA and the States with regard to such carriers.

2. Procedures to allow the public to have access, subject to 5 U.S.C. 552(a), to aggregated complaint information and a process for carriers to challenge duplicate or fraudulent information in the database.

NCCDB is capable of recording the following types of complaints:

1. Safety Violation Complaints—Consumers, commercial motor vehicle drivers, and others can report violations of Federal Motor Carrier Safety Regulations (FMCSRs).

2. Household Goods (HHG) Complaints—Consumers can report complaints related to the contracting and moving of HHG.

3. Hazardous Materials and Cargo Tank Complaint—Consumers can report complaints related to Hazardous Materials and Cargo Tank.

The data collected by NCCDB can be used by FMCSA to identify problematic motor carriers in order to take enforcement actions and to promote compliance with FMCSRs. The NCCDB can also be used to alert consumers of those motor carriers with a history of complaints related to transporting HHG and to provide guidance to the public on how to avoid being victimized by unscrupulous moving companies.

Motor carriers can use NCCDB to assist with complaint reconciliation. After being informed of a complaint, the respondent is encouraged to resolve the complaint with the complainant.

ROUTINE FUNCTION OF SYSTEM RECORDS (INCLUDES CATEGORIES OF USERS AND PURPOSES OF USE):

• Information may be shared with congressional offices and Federal, State, and local government agencies for the purposes of enforcing the safety of motor carriers and HHG transporters.

• Information may be shared with Federal, State, and local law enforcement programs to safeguard against and respond to the breach of personally identifiable information.

• Information may also be accessed by Federal contractors involved in the system support and maintenance of NCCDB.

• In addition to those disclosures generally permitted under 5 U.S.C. 552a(b)(3) of the Privacy Act, additional disclosures may be made in accordance with the DOT Prefatory Statement of General Routine Uses, published at 65 FR 19476 (April 11, 2000).

DISCLOSURE TO CONSUMER REPORTING AGENCIES:

None.

POLICIES AND PRACTICES FOR STORING, RETRIEVING, ACCESSING, RETAINING, AND DISPOSING OF RECORDS:

Storage—NCCDB records are stored in an automated system operated and maintained at the Volpe National Transportation Systems Center (Volpe Center), U.S. Department of Transportation, 55 Broadway, Cambridge, MA 02142. Backup copies of NCCDB records are archived in a secure offsite facility.

Retrievability—NCCDB records can be retrieved through automated searches on the following key words or identifying information:

• Complainant Name.

• Respondent Name.

• Address (Complainant and Respondent).

• Fax Number (Complainant and Respondent).

• Phone Number (Complainant and Respondent).

• State Name (Complainant and Respondent).

• Zip Code (Complainant and Respondent).

• E-mail Address (Complainant and Respondent).

• Secondary Respondent Name.

• Motor Carrier Number.

• USDOT Number.

• Complaint ID Number.

• Complaint Date.

Accessibility (Including Safeguards)—Access to NCCDB is restricted to those authorized users with a specific “need to know” and requires authentication with a valid user name and password. Only authorized federal government personnel and contractors conducting system support or maintenance activities may access NCCDB records. The scope of access is limited to the official need of each authorized individual. NCCDB is housed in a secure data center, and access to NCCDB is restricted to authorized personnel only. Access to the building in which NCCDB is located is also restricted to authorized personnel only. FMCSA operates NCCDB in accordance with the E-Government Act of 2002 (Pub. L. 107-347), the Federal Information Security Management Act (FISMA) of 2002 (Title III of Pub. L. 107-347), and other required policies, procedures, practices, and security controls for implementing the Automated Information Systems Security Program.

Retention and Disposal—Complaint files are retained at the John A. Volpe National Transportation Systems Center by the system administrator. All files received by the Safety Violation and Household Goods Consumer Complaint Hotline are retained in compliance with agency record control schedules. Complaints mailed from FMCSA to Ecompex are recorded online in NCCDB by Ecompex staff. The Volpe Center and Ecompex comply with all requirements of the National Archives and Records Administration (NARA) with respect to record retention and control. NARA regulations indicate that electronic files created to monitor system usage are authorized for erasure or deletion when the agency determines that they are no longer needed for administrative, legal, audit, or other operational purposes.

SYSTEM MANAGER CONTACT INFORMATION:

James Dubose; Federal Motor Carrier Safety Administration; Commercial Enforcement Division; MC-ECC, M61300, W63-421; 1200 New Jersey Avenue SE; Washington, DC 20590.

NOTIFICATION PROCEDURE:

Individuals wishing to know if their records appear in this system may make a request in writing to the System Manager. The request must include the requester's name, mailing address, telephone number and/or e-mail address, a description and the location of the records requested, compliant tracking number, and verification of identity. FMCSA's requirement for verification of identify for NCCDB include the following:

• Complaint ID/tracking number of the complaint.

• Name address and telephone number.

• Date of compliant.

• Origin and destination of the complaint (If appropriate).

• Respondent's name and DOT number (If appropriate).

• Description of the complaint.

RECORD ACCESS PROCEDURES:

Individuals seeking access to information about them in this system should apply to the System Manager, following the same procedure as indicated under “Notification Procedure.”

CONTESTING RECORD PROCEDURES:

Individuals seeking to contest the content of information about them in this system should apply to the System Manager, following the same procedure as indicated under “Notification Procedure.”

RECORD SOURCE CATEGORIES:

NCCDB complaints are obtained from consumers, motor carriers, brokers, and consumers who contract with Hazardous Materials motor carriers and Cargo Tank Facilities.

EXEMPTIONS CLAIMED FOR THE SYSTEM:

Pursuant to subsection (k)(2) of the Privacy Act (5 U.S.C. 552a(k)(2)), portions of this system are exempt from the requirements of subsections (c)(3), (d), (e)(4)(G)-(I) and (f) of the Act, for the reasons stated in DOT's Privacy Act regulation (49 CFR Part 10, Appendix, Part II at A.8.

Dated: May 6, 2010.
Habib Azarsina,
Departmental Privacy Officer.

[FR Doc. 2010-11415 Filed 5-12-10; 8:45 am]

BILLING CODE 4910-9X-P